DEPARTMENT OF THE INTERIOR

Fish and Wildlife Service

Notice of Availability of the Final Comprehensive Conservation Plan and Environmental Impact Statement for Roanoke River National Wildlife Refuge in Bertie County, NC

AGENCY: Fish and Wildlife Service, Interior.

ACTION: Notice of availability.

SUMMARY: The Fish and Wildlife Service announces that the Final Comprehensive Conservation Plan and Environmental Impact Statement for Roanoke River National Wildlife Refuge are available for distribution. The plan and environmental impact statement were prepared pursuant to the National Wildlife Refuge System Improvement Act of 1997, and in accordance with the National Environmental Policy Act of 1969, and describe how the refuge will be managed over the next 15 years. The compatibility determinations for hunting, fishing, environmental education and interpretation, trapping of selected furbearers for management, forest management, and resource research studies are also available within the plan.

DATES: A Record of Decision may be signed on or after November 30, 2005.

ADDRESSES: A copy of the plan and environmental impact statement is available by writing to Harvey Hill, Refuge Manager, 114 West Water Street, Windsor, North Carolina 27983; Telephone: 252/794-3808; Fax: 252/794-3780; or by e-mail at harvey_hill@fws.gov. The plan and environmental impact statement may also be accessed and downloaded from the Service's Web site http://southeast.fws.gov/planning.

SUPPLEMENTARY INFORMATION: Roanoke River National Wildlife Refuge, in northeastern North Carolina, consists of 20,978 acres, of which 13,824 acres are bald cypress-water tupelo swamp and 7,154 acres are bottomland hardwood forest. The refuge supports a variety of wildlife species, including neotropical migratory songbirds, waterfowl, colonial nesting birds, deer, turkeys, and squirrels.

The refuge hosts 20,000 visitors annually who participate in hunting, fishing, wildlife observation, wildlife photography, and environmental education and interpretation.

Implementing the comprehensive conservation plan will enable the refuge to fulfill its critical role in the conservation and management of fish and wildlife resources in the Roanoke River Valley, and to provide quality environmental education and wildlife-dependent recreational opportunities for refuge visitors. The Service analyzed three alternatives for managing the refuge and selected Alternative 3 to guide management direction over the next 15 years.

Alternative 3 advances the refuge program considerably and outlines programs that will meet both the biological needs of refuge resources and needs of the public. The refuge will develop a habitat management plan and manage all habitats and selected easements large enough to warrant consideration. The staff will survey all wildlife on the refuge. The number of public use opportunities will increase. Pending the availability of funds, a shop and equipment storage facility will be constructed.

Two changes were made to the final plan. One change related to the Service's role in addressing the managed-flow issue on the Roanoke River. The river has managed flows from both flood control dams and hydroelectric power generation. The Service has been involved in negotiations regarding the re-licensing agreement between Dominion Power Company and the Federal Energy Regulatory Commission. The Service is involved in discussions to study the impacts of the flood control projects under section 216 of the Flood Control Act. The Service's Ecological Services Field Office in Raleigh, North Carolina, is the lead office on the managed-flow issue. The South Atlantic Fisheries Coordination Office also participates in the negotiations and studies. The other change related to the waterfowl hunting season on the refuge. The refuge will now end its waterfowl hunting season on the same date the state waterfowl hunting season ends.

Public comments were requested, considered, and incorporated throughout the planning process. Public outreach has included open houses, public meetings, a biological review, planning update mailings, and Federal Register notices. Five previous notices were published in the Federal Register concerning the comprehensive conservation plan and environmental impact statement (65 FR 66256, November 3, 2000; 66 FR 23042, May 7, 2001; 67 FR 13793, March 26, 2002; 70 FR 16299, March 30, 2005; 70 FR 32610, June 3, 2005). During the comment period on the draft plan, the Service received fifteen public responses. All substantive issues raised have been addressed either through changes incorporated into the final plan or through the responses to the public comments, which are included in Appendix XIII of the plan.

Dated: September 8, 2005.
Cynthia K. Dohner,
Acting Regional Director.

[FR Doc. 05-21607 Filed 10-28-05; 8:45 am]

BILLING CODE 4310-55-M